DEPARTMENT OF ENERGY

Federal Energy Regulatory Commission

[Docket No. RP14-773-000]

City of Las Cruces, New Mexico, City of Mesa, Arizona, ConocoPhillips Company, Freeport-McMoRan Corporation, Navajo Tribal Utility Authority, New Mexico Gas Company, Inc., Southwest Gas Corporation, Complainants v. El Paso Natural Gas Company, L.L.C., Respondent; Notice of Complaint

Take notice that on April 25, 2014, pursuant to Rule 206 of the Federal Energy Regulatory Commission's (Commission) Rules of Practice and Procedure, 18 CFR 385.206, City of Las Cruces, New Mexico, City of Mesa, Arizona, ConocoPhillips Company, Freeport-McMoRan Corporation, Navajo Tribal Utility Authority, New Mexico Gas Company, Inc., and Southwest Gas Corporation (Complainants) jointly and severally filed a formal complaint against El Paso Natural Gas Company, L.L.C. (Respondent) alleging that, Respondent has illegally terminated Complainant's respective Transportation Service Agreements (TSA), which are subject to Article 11.2(a) of the 1996 Settlement Agreement.¹

¹ El Paso Natural Gas Co., Docket No. RP96-363-000, et al. Offer of Settlement and Request for Approval of Stipulation and Agreement. (submitted March 15, 1996); El Paso Natural Gas Co., 79 FERC ¶ 61, 028, reh'g denied 80 FERC ¶ 61, 084 (1997).

The Complainant certifies that copies of the complaint were served on the Respondent as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on May 15, 2014.

Dated: April 29, 2014.
Kimberly D. Bose,
Secretary.

[FR Doc. 2014-10318 Filed 5-5-14; 8:45 am]

BILLING CODE 6717-01-P